DEPARTMENT OF TRANSPORTATION

National Highway Traffic Safety Administration

[Docket No. NHTSA-2024-0047; Notice 1]

Volkswagen Group of America, Inc., Receipt of Petition for Decision of Inconsequential Noncompliance

AGENCY: National Highway Traffic Safety Administration (NHTSA), Department of Transportation (DOT).

ACTION: Receipt of petition.

SUMMARY: Volkswagen Group of America, Inc. (Volkswagen) has determined that certain model year (MY) 2019-2024 Volkswagen and Audi motor vehicles do not fully comply with Federal Motor Vehicle Safety Standard (FMVSS) No. 208, Occupant Crash Protection. Volkswagen filed a noncompliance report dated April 10, 2024, and subsequently petitioned NHTSA (the “Agency”) on May 3, 2024, for a decision that the subject noncompliance is inconsequential as it relates to motor vehicle safety. This document announces receipt of Volkswagen's petition.

DATES: Send comments on or before October 17, 2024.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Syed Rahaman, General Engineer, NHTSA, Office of Vehicle Safety Compliance, (202) 366-1704.

SUPPLEMENTARY INFORMATION:

I. Overview: Volkswagen determined that certain MY 2019-2024 Volkswagen and Audi motor vehicles do not fully comply with paragraph S4.5.1(f)(2)(vii) of FMVSS No. 208, Occupant Crash Protection (49 CFR 571.208).

Volkswagen filed a noncompliance report dated April 10, 2024, pursuant to 49 CFR part 573, Defect and Noncompliance Responsibility and Reports. Volkswagen petitioned NHTSA on May 3, 2024, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Volkswagen's petition is published under 49 U.S.C. 30118 and 30120 and does not represent any agency decision or another exercise of judgment concerning the merits of the petition.

II. Vehicles Involved: Approximately 129,850 of the following Volkswagen and Audi motor vehicles, manufactured between May 21, 2023, and March 9, 2024, were reported by the manufacturer:

• MY 2024 Volkswagen ID4

• MY 2024 Audi Q4 E-TRON SUV

• MY 2024 Audi Q4 E-TRON SPORTBACK

• MY 2019-2024 Audi Q3

III. Rule Requirements: Paragraph S4.5.1(f)(2)(vii) of FMVSS No. 208 includes the requirements relevant to this petition. Paragraph S4.5.1(f)(2)(vii) requires that the owner's manual provide accurate information on the telltale light, including when the light is illuminated.

IV. Noncompliance: Volkswagen explains that the owner's manual equipped with the subject vehicles does not include an accurate description of the vehicle's air bag system, therefore, the subject vehicles do not comply with paragraph S4.5.1(f)(2)(vii) of FMVSS No. 208. Specifically, the description of the “Passenger Airbag On” telltale light provides an inaccurate length of time that the “Passenger Airbag On” telltale is illuminated while the air bag is active.

V. Summary of Volkswagen's Petition: The following views and arguments presented in this section, “V. Summary of Volkswagen's Petition,” are the views and arguments provided by Volkswagen. They have not been evaluated by the Agency and do not reflect the views of the Agency. Volkswagen describes the subject noncompliance and contends that the noncompliance is inconsequential as it relates to motor vehicle safety.

Volkswagen explains that the subject noncompliance pertains to the description of the “Passenger Airbag On” light in the owner's manual, which Volkswagen states is not specifically required by FMVSS No. 208. Although the owner's manual equipped with the subject vehicles inaccurately describes the duration that the “Passenger Airbag On” light remains illuminated while the air bag is active, the air bag system itself functions properly and meets all applicable FMVSSs.

For the affected Audi Q3 models, the owner's manual indicates that the “Passenger Airbag On” light will remain illuminated permanently when the air bag is on, whereas it actually extinguishes after 60 seconds. For the affected Q4 e-tron, Q4 Sportback e-tron, and ID.4 models, the owner's manual indicates that the light extinguishes after 60 seconds, but it actually remains illuminated permanently while the air bag is on. In both scenarios, Volkswagen says that the air bag itself remains switched on, ready for operation if needed, and is otherwise accurately described in the owner's manual.

Volkswagen believes that the subject noncompliance does not impact motor vehicle safety because the air bag system is operational and accurately described in other respects. The owner's manual includes an explanation of how the system's components function together and how the “Passenger Airbag Off” indicator light functions, as required by FMVSS No. 208. Furthermore, Volkswagen states that the owner's manual explains the main components of the advanced passenger air bag system, describing how the components function together and covering the basic requirements for proper operation, along with other important relevant safety information.

Volkswagen references a previous petition for a similar issue in Volkswagen Taos, Golf, ID.4, and Audi A3 motor vehicles that NHTSA granted, deeming the inaccurate owner's manual description inconsequential to motor vehicle safety.¹ Volkswagen says NHTSA concluded that if the air bag is inactive, the “Passenger Airbag Off” indicator would remain illuminated and provide clear communication to vehicle occupants.

¹ See Volkswagen Group of America, Inc., Grant of Petition for Decision of Inconsequential Noncompliance, 88 FR 32274 (May 19, 2023).

Volkswagen states that it has corrected the subject noncompliance in unsold vehicles and updated the owner's manuals via a supplemental page. Volkswagen believes that the subject noncompliance is inconsequential to motor vehicle safety because the front passenger air bag system works as designed, and the only potential noncompliance is the inaccurate information in the owner's manual about the duration of the “Passenger Airbag On” light, which Volkswagen submits is neither required nor regulated by FMVSS No. 208. Volkswagen reports no accidents or injuries related to this issue and one customer inquiry.

Volkswagen concludes by stating its belief that the subject noncompliance is inconsequential as it relates to motor vehicle safety and its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Volkswagen no longer controlled at the time it determined that the noncompliance existed. However, any decision on this petition does not relieve vehicle distributors and dealers of the prohibitions on the sale, offer for sale, or introduction or delivery for introduction into interstate commerce of the noncompliant vehicles under their control after Volkswagen notified them that the subject noncompliance existed.

(Authority: 49 U.S.C. 30118, 30120: delegations of authority at 49 CFR 1.95 and 501.8)

Otto G. Matheke III,
Director, Office of Vehicle Safety Compliance.

[FR Doc. 2024-21066 Filed 9-16-24; 8:45 am]

BILLING CODE 4910-59-P